DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by May 10, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: John K. Maher, Corpus Christi, TX, PRT-133297.

The applicant requests an interstate commerce permit to transport a pair of captive-born San Esteban Island chuckwalls (Sauromalus varius) for the purpose of enhancement of the species through captive propagation.

Applicant: Archie Carr Center for Sea Turtle Research, University of Florida, Gainesville, FL, PRT-724540.

The applicant requests re-issuance of a permit to import biological samples collected from wild, captive held, and/or captive hatched leatherback sea turle (Dermochelys coriacea), hawksbill sea turtle (Eretmochelys imbricata), green sea turtle (Chelonia mydas), Kemp's ridley sea turtle (Lepidochelys kempii), and olive ridley sea turtle (Lepidochelys olivacea) for the purpose of scientific research. Samples are to be collected from live or salvaged specimens. This notification covers activities conducted by the applicant over a five year period.

Applicant: National Marine Fisheries Service, La Jolla, CA, PRT-844694.

The applicant requests an amendment and re-issuance of their permit to import and/or introduce from the sea, biological samples collected from the wild on the high seas, both from opportunistically salvaged and incidentally captured specimens of Kemp's ridley sea turtle (Lepidochelys kempii), hawksbill sea turtle (Eretmochelys imbricata), and leatherback sea turtle (Dermochelys coriacea) for the purpose of scientific research. The amendment request is for the import of biological samples collected on land, opportunistically from wild, captive-held and/or captive hatched specimens of Kemp's ridley sea turtle (Lepidochelys kempii), hawksbill sea turtle (Eretmochelys imbricata), leatherback sea turtle (Dermochelys coriacea), green sea turtle (Chelonia mydas), and olive ridley sea turtle (Lepidochelys olivacea). Samples are to be collected from live or salvaged specimens. This notification covers activities conducted by the applicant over a period of 5 years.

Applicant: Lemur Conservation Foundation, Myakka City, FL, PRT-137431.

The Fish and Wildlife Service is reopening the comment period for the applicant to import three live captive born ring-tailed lemurs (Lemur catta) for the purpose of enhancement of the survival of the species through captive propagation and scientific research. The application was submitted to satisfy the requirements of the Endangered Species Act of 1973, as amended (16 U.S.C. 1531 et seq.). A notice of receipt of this application for a permit was published in the Federal Register on February 23, 2007, Vol. 72 and page #8194. The comment period will close on March 26, 2007. On February 26, 2007, the applicant requested that another ring-tailed lemur and two mongoose lemurs (Eulemur mongoz) be added to the application. We are reopening the comment period to allow all interested parties to review the new information and provided us with any additional comments regarding the application.

Applicant: Michelle P. Williamson Austine, Huntington Beach, CA, PRT-148365.

The applicant requests a permit to import the sport-hunted trophy of one male bontebok (Damaliscus pygargus pygargus) culled from a captive herd maintained under the management program of the Republic of South Africa, for the purpose of enhancement of the survival of the species.

Applicant: George D. Cummans, Gadsden, AL, PRT-148763.

The applicant requests a permit to import the sport-hunted trophy of one male bontebok (Damaliscus pygargus pygargus) culled from a captive herd maintained under the management program of the Republic of South Africa, for the purpose of enhancement of the survival of the species.

Applicant: Ralph G. Merrill, Bountiful, UT, PRT-148895.

The applicant requests a permit to import the sport-hunted trophy of one male bontebok (Damaliscus pygargus pygargus) culled from a captive herd maintained under the management program of the Republic of South Africa, for the purpose of enhancement of the survival of the species.

Applicant: John R. Hopkins, Littleton, CO, PRT-148787.

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: Leo F. Neuls, Trenton NJ, PRT-147859.

The applicant requests a permit to import a polar bear (Ursus maritimus) sport hunted from the Northern Beaufort Sea polar bear population in Canada for personal, noncommercial use.

Applicant: Rick J. Zitzloff, Minnetrista, MN, PRT-148408.

The applicant requests a permit to import a polar bear (Ursus maritimus) sport hunted from the Northern Beaufort Sea polar bear population in Canada for personal, noncommercial use.

Applicant: Daniel A. Hoffler, Virginia Beach, VA, PRT-148820.

The applicant requests a permit to import a polar bear (Ursus maritimus) sport hunted from the Viscount Melville Sound polar bear population in Canada for personal, noncommercial use.

Dated: March 16, 2007.
Michael L. Carpenter,
Senior Permit Biologist, Branch of Permits, Division of Management Authority.

[FR Doc. E7-6695 Filed 4-9-07; 8:45 am]

BILLING CODE 4310-55-P